DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the U.S. Customs and Border Protection regulations (19 CFR 111.51), the following Customs broker licenses and all associated permits are cancelled without prejudice.

Name | License # | Issuing port
Dollar Customs House Brokerage, LLC | 28045 | Los Angeles.
Wendy Searles | 22808 | Dallas.
David W. Price | 11001 | San Francisco.
Bayer Corporate and Business Services, LLC | 23510 | Philadelphia.
A.H. Carter & Associates, Inc | 12109 | Seattle.
Coronet of California, Inc | 04400 | Los Angeles.

Dated: June 30, 2011.
Allen Gina,
Assistant Commissioner, Office of International Trade.

[FR Doc. 2011-18527 Filed 7-21-11; 8:45 am]

BILLING CODE 9111-14-P